DEPARTMENT OF THE INTERIOR

Office of the Secretary

Advisory Committee on Water Information; Notice of Renewal

This notice is published in accordance with section 9 (a) (2) of the Federal Advisory Committee Act (Pub. L. 92-463), 5 U.S.C. App. (1988). Following consultation with the General Services Administration, notice is hereby given that the Secretary of the Interior is renewing the Advisory Committee on Water Information (ACWI). OMB Memorandum M-92-01 dated December 10, 1991, designated the U.S. Geological Survey (USGS) as the lead agency for the Water Information Coordination Program (WICP) and also designated all other Federal organizations using water resources information to assist the USGS in ensuring the implementation of an effective WICP.

The purpose of the Committee is to represent the interests of water-information users and professionals in advising the Federal Government on Federal water-information programs and their effectiveness in meeting the Nation's water-information needs. Member organizations help to foster communications between the Federal and non-Federal sectors on sharing water information.

Membership represents a wide range of water resources interests and functions. Representation of the ACWI includes all levels of government, Tribes, public interest groups, academia, private industry, nonprofit and professional organizations. Member organizations designate their representatives and alternates. Membership is limited to a maximum of 35 organizations.

The Committee will function solely as an advisory body and in compliance with the provisions of the Federal Advisory Committee Act. The Charter will be filed under the Act, 15 days from the date of publication of this notice.

Further information regarding the ACWI may be obtained from the Associate Director for Water, USGS, Department of the Interior, 12201 Sunrise Valley Drive, Reston, Virginia 20192. Certification of renewal is published below.

Certification

I hereby certify that the renewal of the Advisory Committee on Water Information is necessary and in the public interest in connection with the performance of duties by the Department of the Interior mandated pursuant to the OMB Memorandum M-92-01.

Dated: May 9, 2003.
Gale A. Norton,
Secretary of the Interior.

[FR Doc. 03-12364 Filed 5-16-03; 8:45 am]

BILLING CODE 4310-Y7-M